DEPARTMENT OF ENERGY

Extension of Public Comment Period, Draft Supplemental Environmental Impact Statement II for Long Term Management and Storage of Elemental Mercury

AGENCY: Office of Environmental Management, Department of Energy.

ACTION: Extension of public comment period.

SUMMARY: On July 8, 2022, a Federal Register Notice was issued that announced the availability of the U.S. Department of Energy (DOE) Office of Environmental Management's Draft Long-Term Management and Storage of Elemental Mercury Supplemental Environmental Impact Statement (Draft Mercury Storage SEIS-II, DOE/EIS-0423-S2D). The Notice also announced two web-based public hearings that were held on August 2 and 4, 2022, to obtain public comments. DOE is extending the public comment period for the Draft SEIS from August 22, 2022, to September 6, 2022.

DATES: DOE extends the public comment period to September 6, 2022. DOE will consider all comments submitted or postmarked by September 6, 2022. Comments submitted to DOE concerning the Draft Mercury Storage SEIS-II, prior to this announcement do not need to be resubmitted as a result of this extension of the comment period.

ADDRESSES: Additional information regarding the SEIS-II, the 2011 Mercury Storage EIS, 2013 Mercury Storage SEIS, and other related documents is available online at: https://www.energy.gov/nepa/doeeis-0423-s2-supplemental-environmental-impact-statement-long-term-management-and-storage:

• Mail: Ms. Julia Donkin, Document Manager, Office of Environmental Management, Department of Energy, EM-4.22, 1000 Independence Avenue SW, Washington, DC 20585.

• Email: ElementalMercury_NEPA@em.doe.gov. Please submit comments as an email message or email attachment (i.e., Microsoft Word or PDF file format) without encryption.

• Postal Mail: Please submit comments by U.S. Mail to Ms. Julia Donkin, NEPA Document Manager, Office of Environmental Management, U.S. Department of Energy, EM-4.22, 1000 Independence Avenue SW, Washington, DC 20585.

• Website: The Draft Mercury Storage SEIS-II is available at: https://www.energy.gov/nepa/doeeis-0423-s2-supplemental-environmental-impact-statement-long-term-management-and-storage.

FOR FURTHER INFORMATION CONTACT: Questions concerning the Draft Mercury Storage SEIS-II or the public hearing can be sent to Ms. Julia Donkin, NEPA Document Manager, Office of Environmental Management, U.S. Department of Energy, EM-4.22, 1000 Independence Avenue SW, Washington, DC 20585, (202) 586-5000, or to Julia.Donkin@em.doe.gov. Direct questions specific to DOE's elemental mercury program to Mr. David Haught, Mercury Program Manager, Office of Environmental Management, U.S. Department of Energy, EM-4.22, 1000 Independence Avenue SW, Washington, DC 20585, (202) 586-5000, or to David.Haught@hq.doe.gov.

• For general information concerning the DOE Office of Environmental Management NEPA process, please contact Mr. William Ostrum, Office of Environmental Management NEPA Compliance Officer, U.S. Department of Energy, EM-4.31, 1000 Independence Avenue SW, Washington, DC 20585, (202) 586-2513, or to William.Ostrum@hq.doe.gov.

SUPPLEMENTARY INFORMATION: On July 8, 2022, DOE published in the Federal Register the Notice of Availability announcing the availability of the second Draft Long-Term Management and Storage of Elemental Mercury Supplemental Environmental Impact Statement (Draft Mercury Storage SEIS-II, DOE/EIS-0423-S2D) for public comment (87 FR 40830). In that notice, DOE also announced that it would host two web-based public hearings to allow DOE to present information about the Draft SEIS-II and to receive oral comments from the public. The first hearing was held on August 2, 2022, from 12:00 p.m. to 2:00 p.m. EDT. The second hearing was held on August 4, 2022, from 1:00 p.m. to 3:00 p.m. EDT.

Signing Authority

This document of the Department of Energy was signed on August 5, 2022, by William I. White Senior Advisor for Environmental Management, Office of Environmental Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 9, 2022.
Treena V. Garrett,
Federal Register Liaison Officer, U.S. Department of Energy.

[FR Doc. 2022-17375 Filed 8-11-22; 8:45 am]

BILLING CODE 6450-01-P